DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed, revised information collection. In accordance with the Paperwork Reduction Act of 1995, this notice seeks comments concerning the Flood Mitigation Assistance program requirements.

SUPPLEMENTARY INFORMATION: The Program was created with the enactment of the National Flood Insurance Reform Act of 1994. Section 553 of the Act authorizes a mitigation assistance program which FEMA has designated Flood Mitigation Assistance (FMA). Section 554 establishes the National Flood Mitigation Fund to provide assistance under section 553. FMA regulations implement requirements of section 553 and 554 of the Act.

FMA was developed to address concerns regarding repetitively or substantially damaged structures, or both, and the associated claims on the National Flood Insurance Fund. The overall goal of FMA is to fund flood damage to buildings, manufactured homes, and other insurable structures.

The purpose of the planning grants is to develop or update a Flood Mitigation Plan that FEMA must approve before approving a project grant. Native American tribes or authorized tribal organizations may submit applications to the State POC or directly to the FEMA Regional Director.

The regulations outline a basic planning process with minimum standards for the Flood Mitigation Plans. Existing plans, such as those credited through the Community Rating System or those prepared in conformance with section 322 of the Stafford Act, as amended by section 104 of the Disaster Mitigation Act of 2000, may meet the requirements of FMA with few or no modifications. The plan should summarize the planning process, and should be reviewed periodically by the community in order to remain a viable document. Flood Mitigation Plans must be formally adopted by the legal entity submitting the plan for FEMA approval.

Collection of Information

Title: Flood Mitigation Assistance—Flood Mitigation Plan.

Type of Information Collection: Extension of a currently approved collection.

OMB Number: 1660-0075.

Form Numbers: None.

Abstract: States and communities must have a FEMA approved flood mitigation plan before FEMA will award project grant assistance to a State or community applicant.

FEMA and the States will use local community flood mitigation plans to identify the need to provide technical assistance to local governments lacking sufficient resources to complete FMA grant applications. Secondly, and more importantly, the local or State government that develops the plan will use it to make land use decisions, implement zoning changes, encourage smarter development, and implement projects to reduce the impacts of flooding on insurable structures.

Affected Public: State, Local or Tribal Government.

Estimated Total Annual Burden Hours: 250,560.

Annual Burden Hours
Project/Activity (Survey, Form(s), Focus Group, Worksheet, etc.) | No. of respondents: (A) | Frequency of responses: (B) | Burden hours per respondent: (C) | Annual responses: (A×B) | Total annual burden hours: (A×B×C)
New Flood Mitigation Plans | 120 | 1 | 2080 | 120 | 249,600
Local Mitigation Plan Review by States | 56 | 2.14 | 8 | 120 | 960
Total | 176 | — | 2088 | 240 | 250,560

Estimated Cost: $6,592,234.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, 500 C Street, SW., Room 316, Washington, DC 20472.

FOR FURTHER INFORMATION CONTACT: Contact Cecelia Rozenberg, Section Chief, Pre-Disaster Mitigation Section at (202) 646-3321. You may contact the Records Management Branch for copies of the proposed collection of information at facsimile number (202) 646-3347 or e-mail address: FEMA-Information-Collections@dhs.gov.

Dated: January 26, 2006.
George Trotter,
Acting, Branch Chief, Information Resources Management Branch, Information Technology Services Division.

[FR Doc. E6-1331 Filed 1-31-06; 8:45 am]

BILLING CODE 9110-13-P